FEDERAL RESERVE SYSTEM

Proposed Agency Information Collection Activities; Comment Request

AGENCY: Board of Governors of the Federal Reserve System.

SUMMARY: On June 15, 1984, the Office of Management and Budget (OMB) delegated to the Board of Governors of the Federal Reserve System (Board) its approval authority under the Paperwork Reduction Act (PRA), to approve of and assign OMB numbers to collection of information requests and requirements conducted or sponsored by the Board. Board-approved collections of information are incorporated into the official OMB inventory of currently approved collections of information. Copies of the PRA Submission, supporting statements and approved collection of information instruments are placed into OMB's public docket files. The Federal Reserve may not conduct or sponsor, and the respondent is not required to respond to, an information collection that has been extended, revised, or implemented on or after October 1, 1995, unless it displays a currently valid OMB number.

DATES: Comments must be submitted on or before January 25, 2016.

ADDRESSES: You may submit comments, identified by CAC Application by any of the following methods:

• Agency Web site: http://www.federalreserve.gov. Follow the instructions for submitting comments at http://www.federalreserve.gov/apps/foia/proposedregs.aspx.

• Federal eRulemaking Portal: http://www.regulations.gov. Follow the instructions for submitting comments.

• Email: regs.comments@federalreserve.gov. Include OMB number in the subject line of the message.

• FAX: (202) 452-3819 or (202) 452-3102.

• Mail: Robert deV. Frierson, Secretary, Board of Governors of the Federal Reserve System, 20th Street and Constitution Avenue NW., Washington, DC 20551.

All public comments are available from the Board's Web site at http://www.federalreserve.gov/apps/foia/proposedregs.aspx as submitted, unless modified for technical reasons. Accordingly, your comments will not be edited to remove any identifying or contact information. Public comments may also be viewed electronically or in paper form in Room 3515, 1801 K Street (between 18th and 19th Streets NW.) Washington, DC 20006 between 9:00 a.m. and 5:00 p.m. on weekdays.

Additionally, commenters may send a copy of their comments to the OMB Desk Officer—Shagufta Ahmed—Office of Information and Regulatory Affairs, Office of Management and Budget, New Executive Office Building, Room 10235 725 17th Street NW., Washington, DC 20503 or by fax to (202) 395-6974.

FOR FURTHER INFORMATION CONTACT: A copy of the PRA OMB submission, including the proposed reporting form and instructions, supporting statement, and other documentation will be placed into OMB's public docket files, once approved. These documents will also be made available on the Federal Reserve Board's public Web site at: http://www.federalreserve.gov/apps/reportforms/review.aspx or may be requested from the agency clearance officer, whose name appears below.

Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

SUPPLEMENTARY INFORMATION:

Request for Comment on Information Collection Proposal

The following information collection, which is being handled under this delegated authority, has received initial Board approval and is hereby published for comment. At the end of the comment period, the proposed information collection, along with an analysis of comments and recommendations received, will be submitted to the Board for final approval under OMB delegated authority. Comments are invited on the following:

a. Whether the proposed collection of information is necessary for the proper performance of the Federal Reserve's functions, including whether the information has practical utility;

b. The accuracy of the Federal Reserve's estimate of the burden of the proposed information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Proposal to approve under OMB delegated authority the implementation of the following collection:

Collection title: Application for Membership for the Community Advisory Council.

Agency form number: FR 1401.

OMB control number: 7100-to be assigned.

Frequency: Annual.

Reporters: Persons seeking to be considered for Community Advisory Council (CAC) membership.

Estimated annual reporting hours: 1,100 hours.

Estimated average hours per response: 1 hour.

Estimated number of respondents: 1,100.

General description of information collection: The CAC Application is required to obtain a benefit and is authorized pursuant to the Federal Reserve's general authority to establish the CAC, which is derived from sections 2A and 12A of the Federal Reserve Act which generally authorize the Board to collect information to facilitate these statutory mandates, as well as various consumer protection laws that the Board is authorized to implement and enforce, including the following:

• Community Reinvestment Act, (12 U.S.C. 2905);

• Competitive Equality Banking Act, (12 U.S.C. 3806);

• Expedited Funds Availability Act, (12 U.S.C. 4008);

• Truth in Lending Act, (15 U.S.C. 1604);

• Fair Credit Reporting Act, (15 U.S.C. 1681s(e));

• Equal Credit Opportunity Act, (15 U.S.C. 1691b);

• Electronic Funds Transfer Act, (15 U.S.C. 1693b & 1693o-2);

• Gramm-Leach-Bliley Act, (15 U.S.C. 6801(b)); and

• Flood Disaster Protection Act of 1973, Section 102 (42 U.S.C. 4012a).

Abstract: The CAC was established to provide information, advice, and recommendations to the Board on policy matters and issues affecting consumers and communities. The Application would be used to obtain information about the experience and qualification of persons seeking to be considered for CAC membership. The proposed Application for Membership would collect a candidate's contact information, current employment, areas of expertise, a resume, which typically includes information about employment history, education, and training, and a statement explaining why they are interested in serving on the CAC and what they believe are their primary qualifications. Candidates could voluntarily elect to provide additional information to support their application, such as copies of publications or letters of recommendation.

Board of Governors of the Federal Reserve System, November 19, 2015.
Robert deV. Frierson,
Secretary of the Board.

[FR Doc. 2015-29917 Filed 11-24-15; 8:45 am]

BILLING CODE 6210-01-P